DEPARTMENT OF THE INTERIOR

Bureau of Land Management

[CO200-LLCOF00000-L07770900-XZ0000-241A00]

Notice of Meeting, Front Range Resource Advisory Council

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Front Range Resource Advisory Council (RAC), will meet as indicated below.

DATES: The meeting will be held April 20, 2010 from 9:15 a.m. to 4 p.m.

ADDRESSES: BLM Royal Gorge Field Office, 3028 East Main Street, Cañon City, Colorado 81212.

FOR FURTHER INFORMATION CONTACT: Cass Cairns, Front Range RAC Coordinator, BLM Royal Gorge Field Office, 3028 E. Main St., Cañon City, CO 81212. Phone: (719) 269-8553. E-mail: ccairns@blm.gov.

SUPPLEMENTARY INFORMATION: The 15-member Council advises the Secretary of the Interior, through the Bureau of Land Management, on a variety of planning and management issues associated with public land management in the BLM Front Range District, which includes the Royal Gorge Field Office and the San Luis Valley Public Lands Center, Colorado. Planned agenda topics include: Arkansas River Travel Management Plan Supplemental Rules process; BLM Renewable Energy Team; 2010 Spring and Fall Prescribed Burn Program, and the 2010 Fire Season Outlook; Manager updates on current land management issues that include; Park Center Well; American Recovery Reinvestment Act projects update; status of Over The River draft Environmental Impact Statement; and establishing the 2010 Front Range RAC meeting schedule.

This meeting is open to the public. The public is encouraged to make oral comments to the Council at 9:30 a.m. or written statements may be submitted for the Council's consideration. Depending on the number of persons wishing to comment and time available, the time for individual oral comments may be limited. Summary minutes for the Council Meeting will be maintained in the Royal Gorge Field Office and will be available for public inspection and reproduction during regular business hours within thirty (30) days following the meeting. Meeting minutes and agenda (10 days prior to each meeting) are also available at: http://www.blm.gov/rac/co/frrac/co_fr.htm.

Dated: March 26, 2010.
Anna Marie Burden,
Acting State Director.

[FR Doc. 2010-7287 Filed 3-31-10; 8:45 am]

BILLING CODE 4310-JB-P